DEPARTMENT OF ENERGY

Federal Energy Regulatory Commission

[Docket Nos. CP15-93-000; PF14-14-000; CP15-94-000; CP15-96-000]

Rover Pipeline LLC; Panhandle Eastern Pipe Line Company, LP; Trunkline Gas Company, LLC; Notice of Applications

Take notice that on February 20, 2015, Rover Pipeline LLC (Rover), 1300 Main Street, Houston, Texas 77002, filed in Docket No. CP15-93-000 an application pursuant to section 7(c) of the Natural Gas Act (NGA) for authorization: (i) To construct and operate an new approximately 711-mile new interstate pipeline through the States of West Virginia, Pennsylvania, Ohio, and Michigan; (ii) to construct and operate 10 new compressor stations, totaling 213,420 horsepower; (iii) to construct and operate 19 new meter stations (collectively, the Rover Project); (iv) of its proposed pro forma tariff; (v) for a Part 157, Subpart F construction certificate; (vi) for a Part 284, Subpart G blanket certificate; (vii) for any waivers the Commission deems necessary for the Rover Project. Rover states that the proposed pipeline will have a total capacity of 3.25 billion cubic feet per day and estimates the cost of the Rover Project to be approximately $4.22 billion.

Additionally, on February 23, 2015, Panhandle Eastern Pipe Line Company, LP (Panhandle), 1300 Main Street, Houston, Texas 77002, filed in Docket No. CP15-94-000 an application pursuant to section 7(c) of the NGA for authorization to: (i) Modify station piping and appurtenances at the Edgerton Compressor Station (CS) in Allen County, Indiana; the Zionsville CS in Marion County, Indiana; the Montezuma CS in Parke County, Indiana; and the Tuscola CS in Douglas County, Illinois; (ii) modify piping and appurtenances at three auxiliary facilities in Lenawee County, Michigan; Vermillion County, Indiana; and Hamilton County, Indiana; and (iii) install an interconnect with Rover in Defiance County, Ohio (Panhandle Backhaul Project). Panhandle states that the proposed project will provide 750,000 dekatherms per day (Dth/d) of east-to-west firm transportation service. Panhandle estimates the cost of the Panhandle Backhaul Project to be approximately $58 million.

Finally, on February 23, 2015, Trunkline Gas Company, LLC (Trunkline), 1300 Main Street, Houston, Texas 77002, filed in Docket No. CP15-96-000 an application pursuant to section 7(c) of the NGA for authorization to: (i) Modify station piping at the Johnsonville CS in Wayne County, Illinois; the Joppa CS in Massac County, Illinois; the Dyerburg CS in Dyersburg County, Tennessee; and the Independence CS in Tate County, Mississippi; (ii) modify station piping at the Bourbon Meter Station in Douglas County, Illinois; and (iii) modify piping at the existing Panhandle-Trunkline Interconnect in Douglas County, Illinois. Trunkline states that the proposed project will provide 750,000 Dth/d of north-to-south firm transportation service. Trunkline estimates the cost of the Trunkline Backhaul Project to be approximately $50.8 million.

All of the applications are on file with the Commission and open to public inspection. The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

Any questions concerning these applications may be directed to Stephen Veatch, Senior Director of Certificates, Rover Pipeline Company, LLC; Panhandle Eastern Pipe Line Company, LP; Trunkline Gas Company, LLC, 1300 Main Street, Houston, Texas 77002, by telephone at (713) 989-2024, by facsimile at (713) 989-1205, or by email at stephen.veatch@energytransfer.com.

On June 27, 2014, the Commission staff granted Rover's request to utilize the Pre-Filing Process and assigned Docket No. PF14-14-000 to staff activities involved in the above referenced projects. Now, as of the filing of the February 20, 2014 application, the Pre-Filing Process for this project has ended. From this time forward, this proceeding will be conducted in Docket Nos. CP15-93-000, CP15-94-000, and CP15-96-000 as noted in the caption of this Notice.

Pursuant to section 157.9 of the Commission's rules, 18 CFR 157.9, within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Comment Date: March 30, 2015.

Dated: March 9, 2015.
Kimberly D. Bose,
Secretary.

[FR Doc. 2015-05880 Filed 3-13-15; 8:45 am]

BILLING CODE 6717-01-P